DEPARTMENT OF HEALTH AND HUMAN SERVICES

Centers for Disease Control and Prevention

Disease, Disability, and Injury Prevention and Control Special Emphasis Panel (SEP): Initial Review

The meeting announced below concerns Strategies to Improve Vaccination Coverage of Children in Child Care Centers (CCCs) and Preschools, Funding Opportunity Announcement (FOA) IP11-006; Strategies to Increase Health Care Providers Use of Population-Based Immunization Information Systems, FOA IP11-008; Effectiveness in an Intervention to Promote a Targeted Vaccination program in the Obstetrician-Gynecologist Setting, FOA IP11-009; initial review.

Correction: The notice was published in the Federal Register on April 29, 2011, Volume 76, Number 83, Pages 24031. The place should read as follows:

Place: Holiday Inn Decatur Conference Center, 130 Clairemont Avenue, Decatur, Georgia 30030, Telephone: (404)371-0204.

Contact Person for More Information: Gregory Anderson, M.S., M.P.H., Scientific Review Officer, CDC, 1600 Clifton Road, NE., Mailstop E00, Atlanta, Georgia 30333, Telephone: (404) 498-2293.

The Director, Management Analysis and Services Office, has been delegated the authority to sign Federal Register notices pertaining to announcements of meetings and other committee management activities, for both the Centers for Disease Control and Prevention and the Agency for Toxic Substances and Disease Registry.

Dated: May 27, 2011.
Elaine L. Baker,
Director, Management Analysis and Services Office, Centers for Disease Control and Prevention.

[FR Doc. 2011-14202 Filed 6-7-11; 8:45 am]

BILLING CODE 4163-18-P